DEPARTMENT OF TRANSPORTATION

Federal Aviation Administration

Notice of Availability for the Cal Black Memorial Airport Draft Supplemental Environmental Impact Statement (Draft SEIS) and Section 4(f) Evaluation; Notice of Public Comment Period; and Notice of Opportunity for a Public Hearing

AGENCY: Federal Aviation Administration (FAA), DOT.

ACTION: Notice of availability, notice of comment period, and notice of opportunity for a public hearing.

SUMMARY: In accordance with the National Environmental Policy Act of 1969 (NEPA, 42 U.S.C. 4321 et seq.) and Council on Environmental Quality regulations (40 CFR part 1500-1508), the Federal Aviation Administration announces the availability and request for comment on a Draft Supplemental Environmental Impact Statement (Draft SEIS) and Section 4(f) Evaluation for the Cal Black Memorial Airport. The Section 4(f) Evaluation was prepared pursuant to Section 4(f) of the Department of Transportation Act of 1966 (recodified at 49 U.S.C. 303(c)).

DATES: Comments must be received on or before 45 days from the date of the publication of the Notice of Availability by the U.S. Environmental Protection Agency in the Federal Register. Anyone interested in the project has up to 15 days from the date of EPA's publication of the Notice of Availability in the Federal Register to request a hearing.

ADDRESSES: Copies of the Draft SEIS may be viewed during regular business hours at the following locations:

1. Federal Aviation Administration Airports Division, Suite 315, 1601 Lind Avenue SW., Renton, WA 98057.

2. Federal Aviation Administration, Airports District Office, Suite 224, 26805 East 68th Avenue, Denver, CO 80249.

3. San Juan County Courthouse, County Executive Office, 117 S Main, Monticello, Utah 84535.

4. Web site: http://halls.crossing.airportnetwork.com/.

Written requests for the Draft SEIS and Section 4(f) Evaluation, submittal of comments on the documents, and requests for a public hearing can be submitted to the individual listed in the FOR FURTHER INFORMATION CONTACT section below.

FOR FURTHER INFORMATION CONTACT: Janell Barrilleaux, Environmental Program Manager, Federal Aviation Administration Airports Division, Northwest Mountain Region, 1601 Lind Avenue SW., Renton, WA 98057. Mrs. Barrilleaux may be contacted during business hours at (425) 227-2611 (phone), (425) 227-1600 (fax), or via email at Janell.Barrilleaux@faa.gov.

SUPPLEMENTARY INFORMATION: The Northwest Mountain Region of the Federal Aviation Administration (FAA) as lead agency and the National Park Service (NPS) and Bureau of Land Management (BLM) as a cooperating agencies have prepared a Draft Supplemental Environmental Impact Statement (Draft SEIS) and Section 4(f) Evaluation to address issues arising from the 1993 10th Circuit U.S. Court of Appeals Decision concerning the development of Cal Black Memorial Airport. The U.S. National Park Service (NPS) and Bureau of Land Management (BLM) are cooperating agencies, by virtue of their jurisdictional authority and/or resource management responsibilities. This Draft SEIS and Section 4(f) Evaluation does not involve any new development or project at the airport. The Cal Black Memorial Airport opened in April 1992.

Halls Crossing Airport was located within the boundary of the Glen Canyon National Recreation Area, a unit of the National Park Service (NPS). Due to safety issues with that airport, an Environmental Impact Statement (EIS) was prepared concerning the development of a replacement airport. In 1990, the FAA issued a Draft and Final EIS for the development of a replacement Airport. In August 1990, the FAA issued a record of decision approving the development of Cal Black Memorial Airport. The FAA determined in the record of decision that the use of the BLM lands upon which the airport was built was reasonably necessary for the project. Accordingly, the BLM issued a Patent for the airport land to San Juan County on September 25, 1990. In reaching its approval, the FAA determined that no significant impacts would result from the new airport to the recreational experience of visitors to the recreational area.

In 1990, the National Parks and Conservation Association (NPCA), et al. brought suit against the FAA concerning the adequacy of the EIS and the adequacy of the BLM Plan Amendment and land transfer process. In its July 7, 1993, decision, the U.S. Court of Appeals, 10th Circuit, remanded the EIS decision back to the FAA and BLM for further environmental analysis of aircraft noise impacts to the recreational use of public lands and the BLM's plan amendment and transfer of land.

On November 17, 2008 the BLM issued the Monticello Field Office Record of Decision and Approved Resource Management Plan. The document provides guidance for the management of Federal lands administered by the BLM in San Juan County and a small portion of Grant County in southeast Utah and includes provisions for the disposal of the Cal Black Memorial Airport property.

Thus, the purpose of the Draft SEIS and Section 4(f) Evaluation is to address the requirements of the U.S. Court of Appeals findings. The scope of the Draft SEIS and Section 4(f) Evaluation includes: (1) The measurement of actual aircraft noise levels in GCNRA and visitor survey, (2) an updated evaluation of existing and future aircraft noise levels; (3) a Section 4(f) evaluation using the updated noise analysis; and (4) an analysis on potential cumulative effects.

The FAA encourages all interested parties to provide comments concerning the scope and content of the Draft SEIS. Comments should be as specific as possible and address the analysis of potential environmental impacts and the adequacy of the proposed action. Reviewers should organize their participation so that it is meaningful and makes the agency aware of the viewer's interests and concerns using quotations and other specific references to the text of the Draft SEIS and related documents. Matters that could have been raised with specificity during the comment period on the Draft SEIS may not be considered if they are raised for the first time later in the decision process. This commenting procedure is intended to ensure that substantive comments and concerns are made available to the FAA in a timely manner so that the FAA has the opportunity to address them.

Before including your address, phone number, email address, or other personal identifying information in your comment, be advised that your entire comment—including your personal identifying information—may be made publicly available at any time. While you can ask us in your comment to withhold from public review your personal identifying information, we cannot guarantee that we will be able to do so.

Issued in Renton, Washington, on December 3, 2014.
Carol Suomi,
Acting Division Manager, Airports Division, Northwest Mountain Region.

[FR Doc. 2014-28869 Filed 12-9-14; 8:45 am]

BILLING CODE 4910-13-P